DEPARTMENT OF TRANSPORTATION

Coast Guard

33 CFR Part 165

[CGD01-02-131]

RIN 2115-AA97

Safety and Security Zones: Drilling and Blasting Operations, HubLine Project, Captain of the Port, Boston, MA

AGENCY: Coast Guard, (DOT).

ACTION: Temporary final rule; request for comments; correction.

SUMMARY: This document corrects the temporary final rule; request for comments published in the Federal Register on December 9, 2002, creating temporary safety and security zones around the Drillboat No. 8 and Lablift IV to protect the public from hazards associated with drilling and blasting operations and to protect the vessels and the public from possible acts of terrorism. Due to heavy weather conditions and better information as to the makeup of the ocean floor in the area, contractors with the Hubline Gas Pipeline Project decided to replace the vessels Drillboat No. 8 and Lablift IV with one vessel, the lift barge Kaitlyn Eymard. This correction amends the temporary final rule to reflect the change of vessels that the security and safety zones are established to protect.

DATES: The temporary final rule published in the Federal Register is effective from November 18, 2002 through February 28, 2003. These corrections to that rule are effective December 24, 2002.

FOR FURTHER INFORMATION CONTACT: If you have questions on this temporary final rule; request for comments; correction, contact Chief Petty Officer Daniel Dugery, Marine Safety Office Boston, Waterways Safety and Response Division, at (617) 223-3000.

SUPPLEMENTARY INFORMATION:

Background and Purpose

The Coast Guard published a temporary final rule; request for comments in the Federal Register on December 9, 2002 (67 FR 72840). This rule added temporary section 165.T01-131 to part 165 of Title 33 Code of Federal Regulations creating temporary safety and security zones around the Drillboat No. 8 and the Lablift IV from November 18, 2002 through February 28, 2003.

Need for Correction

As published, the vessels named in the temporary final rule have been changed. Due to heavy weather conditions and better information as to the makeup of the ocean floor in the area, contractors with the Hubline Gas Pipeline Project determined that use of a single vessel, the lift barge Kaitlyn Eymard, would be safer and more effective than using two vessels, Drillboat No. 8 and Lablift IV, as currently identified in the temporary final rule. This rule removes the Drillboat No. 8 and the Lablift IV and replaces it with the lift barge Kaitlyn Eymard.

Correction of Publication

In temporary final rule, FR Doc. 02-30928, published on December 9, 2002 (67 FR 72840), make the following corrections:

1. On page 72840, in the first column, on lines 25, 38, and 41, in the second column, line 60, and in the third column, lines 18 and 29, on page 72841 first column, line 24, third column, line 57, and on page 72842, first column, lines 2, 5, and 14, replace the words “Drillboat No. 8 and Lablift IV” with “Kaitlyn Eymard”.

2. On page 72840, first column, lines 24, 31, and 37, second column, lines 59 and 67, and third column, lines 23, 31, and 43, on page 72841, in the third column, line 62, replace the word “vessels” with “vessel”.

3. On page 72840, first column, lines 24, 28, and 35, second column, line 64, third column, lines 23, 28, 30, 40, 41, 53, and 54, on page 72841, first column, lines 23, 37, and 40, second column, line 2, third column, lines 50 and 55, and on page 72842, first column, line 12, replace the word “zones” with “zone”.

4. On page 72840, first column, line 33, and third column, line 8 replace, “800-PSI” with “high pressure”.

5. On page 72840, in the first column, on lines 30 and 35, and in third column, line 41, replace the word “these” with “this”.

6. On page 72840, in the first column, on lines 35 and 42, in the second column, lines 65 and 67, in the third column, lines 2 and 40, and on page 72841, in the first column, on line 25, replace the word “are” with “is”.

7. On page 72840, in the first column, on line 42 and in the third column, on line 2, replace the words “they” with “it”.

8. On page 72840, in the third column, on line 24, replace the word “them” with “it”.

9. On page 72840, in the second column, on line 65, replace the words “drill barges” with “vessel”.

10. On page 72840, in the third column, on line 19, replace the words “drill vessels themselves” with “vessel itself”.

11. On page 72840, in the third column, on line 44, replace the word “each” with “the”.

12. On page 72840, in the third column, on line 50, replace the word “in” with “is”.

13. On page 72840, in the second column, on line 64, replace the word “affect” with “affects”.

14. On page 72840, third column, line 45, replace the word “each” with the word “the”.

Dated: December 24, 2002.
B.M. Salerno,
Captain, U.S. Coast Guard, Captain of the Port, Boston, Massachusetts.

[FR Doc. 03-314 Filed 1-8-03; 8:45 am]

BILLING CODE 4910-15-P